DEPARTMENT OF VETERANS AFFAIRS

Enhanced-Use Lease of Department of Veterans Affairs Real Property for the Development of Affordable Housing Facility in Minneapolis, Minnesota

AGENCY: Department of Veterans Affairs.

ACTION: Notice of intent to enter into an Enhanced-Use Lease.

SUMMARY: The Secretary of Veterans Affairs intends to enter into an Enhanced-Use Lease (EUL) on approximately 3 acres of land for the purpose of developing 100 units of affordable housing for Veterans. The EUL lessee, CHDC Veterans Limited Partnership, will finance, design, develop, manage, maintain, and operate housing for eligible homeless Veterans, or Veterans at risk of homelessness, on a priority placement basis, and provide services that guide resident Veterans toward attaining long-term self-sufficiency.

FOR FURTHER INFORMATION CONTACT: Edward L. Bradley III, Office of Asset Enterprise Management (044), Department of Veterans Affairs, 810 Vermont Avenue NW., Washington, DC 20420, (202) 461-7778.

SUPPLEMENTARY INFORMATION: Title 38 U.S.C. 8161 et seq. states that the Secretary may enter into an EUL if he determines that at least part of the use of the property will provide appropriate space for an activity contributing to VA's mission, the lease will not be inconsistent with and will not adversely affect VA's mission, and the lease will enhance the use of the property. This project meets these requirements.

Signing Authority

The Secretary of Veterans Affairs, or designee, approved this document and authorized the undersigned to sign and submit the document to the Office of the Federal Register for publication electronically as an official document of the Department of Veterans Affairs. Robert D. Snyder, Chief of Staff, approved this document on April 15, 2016, for publication.

Approved: April 15, 2016.
Michael Shores,
Office of Regulation Policy and Management, Office of the General Counsel.

[FR Doc. 2016-09153 Filed 4-19-16; 8:45 am]

BILLING CODE 8320-01-P